DEPARTMENT OF TRANSPORTATION

National Highway Traffic Safety Administration

49 CFR Part 571

[Docket No. NHTSA-2019-0074]

RIN 2127-AL87

Federal Motor Vehicle Safety Standards; Technical Corrections and Clarifications Related to Tires and Rims

AGENCY: National Highway Traffic Safety Administration (NHTSA), Department of Transportation.

ACTION: Final rule.

SUMMARY: This document amends Federal Motor Vehicle Safety Standard (FMVSS) No. 109, “New pneumatic and certain specialty tires,” in response to a petition for rulemaking from the Tire and Rim Association, to clarify the applicability of the FMVSSs to certain types of tires intended for use on trailers. Based on a review of prior amendments to FMVSS Nos. 109 and 119, “New pneumatic tires for motor vehicles with a Gross Vehicle Weight Rating (GVWR) of more than 4,536 kilograms (10,000 pounds) and motorcycles.” NHTSA concludes that it inadvertently made these tires subject to both FMVSS Nos. 109 and 119, when it was the Agency's intent to make them subject only to FMVSS No. 119. This document corrects that error, and also includes nonsubstantive technical corrections to tire and rim regulations.

DATES: The effective date of this rule is September 30, 2021.

Petitions for reconsideration: Petitions for reconsideration of this final rule must be received not later than October 15, 2021.

ADDRESSES: Petitions for reconsideration of this final rule must refer to the docket and notice number set forth above and be submitted to the Administrator, National Highway Traffic Safety Administration, 1200 New Jersey Avenue SE, Washington, DC 20590. For hand delivery or courier delivery, delivery is only possible between 9:00 a.m. and 5:00 p.m. Eastern time. To be sure someone is there to help you, please call (202) 366-9332 before coming.

FOR FURTHER INFORMATION CONTACT: David Jasinski, Office of the Chief Counsel, by telephone at (202) 366-2992, and by fax at (202) 366-3820. You may send mail to this official at the National Highway Traffic Safety Administration, 1200 New Jersey Avenue SE, Washington, DC 20590.

SUPPLEMENTARY INFORMATION:

I. Summary of the NPRM

On August 21, 2019, NHTSA published in the Federal Register a Notice of Proposed Rulemaking (NPRM) proposing amendments to FMVSS No. 109, in response to a petition from the Tire and Rim Association (TRA). TRA sought to clarify the applicability of the FMVSSs to certain types of tires intended for use on trailers (Special Trailer (ST) tires, Farm Implement (FI) tires, and tires with a rim diameter code of 12 or below (hereinafter, “specialty tires”)), and sought other nonsubstantive technical amendments.¹ The NPRM proposed to clarify NHTSA's intent to make specialty tires intended for use on trailers to be subject only to FMVSS No. 119.

¹ 84 FR 43563.

In the NPRM, NHTSA acknowledged that in a January 2006 final rule,² NHTSA stated its intent for specialty tires to be subject to FMVSS No. 119, but in an August 2007 final rule had inadvertently made specialty tires also subject to FMVSS No. 109.³ Further, NHTSA acknowledged that FMVSS No. 109 does not specify test conditions for specialty tires with maximum inflation pressures not specified in FMVSS No. 109. Without specified test pressures, NHTSA cannot test specialty tires for compliance with FMVSS No. 109. While this issue could be remedied by adding new test pressures to FMVSS No. 109, NHTSA stated its belief that making specialty tires subject to FMVSS No. 119 is preferable because FMVSS No. 119 specifies test conditions based on load range designations. Doing so would provide the tire industry flexibility to change maximum tire inflation pressures for specialty tires without first requesting regulatory changes from NHTSA.

² 71 FR 877.

³ 72 FR 49207.

Based on the foregoing, NHTSA proposed an amendment to FMVSS No. 109 to remove references to specialty tires from the title and the “Application” section. Second, NHTSA proposed to add a reference to specialty tires to the title of FMVSS No. 119. In addition, though not suggested by TRA, NHTSA proposed an amendment to the “Scope” section of FMVSS No. 119 to include a reference to specialty tires, to provide added clarity regarding the applicability of FMVSS No. 119 to specialty tires. Specialty tires are already listed in the “Application” section of FMVSS No. 119.

NHTSA also proposed amendments to Table III in FMVSS No. 119, the endurance test schedule, which had been included in a prior NPRM proposing upgrades to FMVSS No. 119.⁴ These included technical corrections to Table III of FMVSS No. 119 to include items that have been inadvertently omitted from the table through amendments to the standard, including those pertinent to specialty tires. The NPRM proposed correcting the omission of load range C, D, M, and N for speed-restricted service tires, load range A through E and M from the list of “All other” tires, and missing footnotes.

⁴ 75 FR 60036 (Sep. 29, 2010). These proposals did not receive adverse comments responding to that NPRM.

The August 2019 NPRM also included several nonsubstantive technical amendments:

• A corresponding amendment to FMVSS No. 110 to remove a reference to FMVSS No. 109 as a standard under which specialty tires could be certified.

• Clarification that tires manufactured for vehicles manufactured in the year 1975 are subject to FMVSS No. 109.

• The reinsertion of a footnote in Table II of FMVSS No. 119 that had inadvertently been omitted, stating that the minimum breaking energy requirements for rayon cord tires is 60 percent of those listed in the Table II.⁵

⁵ This amendment had been proposed previously in a January 10, 2013 Supplemental NPRM and NHTSA received no adverse comment. See 78 FR 2236.

• Formatting changes and revised headings in Table II of FMVSS No. 119 to make the table easier to read.⁶

⁶ Id.

• Correction of the formula in S7.3(f)(1) of FMVSS No. 119 for computing breaking energy of a tire when using metric units.⁷

⁷ Id.

• Correction of the values for total number of revolutions of the test wheel during the endurance test in Table III of FMVSS No. 119.

• Clarification that deep tread (18/32 inch or greater) light truck tires are excluded from FMVSS No. 139. NHTSA had previously determined that such tires should be subject to FMVSS No. 119.⁸

⁸ Supra note 2.

• Clarification that FMVSS No. 139 excludes tires with rim diameters of 12 inches and below, not 8 inches as it currently is stated. Tires with rim diameters between 8 and 12 inches are considered specialty tires that will be subject only to FMVSS No. 119.

• The insertion of a missing heading referencing light truck tires with a nominal cross section ≤ 295 mm (11.5 inches) in the tables setting forth the test pressure for the high speed performance test, the tire endurance test, and the low inflation pressure performance test for light trucks in FMVSS No. 139.

• Correction of NHTSA's current address in FMVSS No. 110 and FMVSS No. 139.

• Typographical errors in the application section of FMVSS No. 110.

II. Summary of the Comments Received and NHTSA's Response

NHTSA received three comments in response to the August 2019 NPRM, one from the Japan Automobile Tyre Manufacturers Association (JATMA) and two separate comments from the U.S. Tire Manufacturers Association (USTMA), both of which are trade associations representing tire manufacturers.

JATMA's comment supported the proposal. However, JATMA also sought an amendment to S5.5.1 of FMVSS No. 139 “to reflect new Tire Identification Number [TIN] stipulated in 49 CFR part 574.5.” ⁹ Although JATMA does not specify precisely what in S5.5.1 of FMVSS No. 139 it wants amended, NHTSA believes that JATMA is likely referring to the reference to an “optional code.”

⁹ JATMA comments, Docket No. NHTSA-2019-0074-0002, at 1.

NHTSA is not accepting this suggested amendment from JATMA in the final rule. In an April 13, 2015 final rule, NHTSA updated the TIN requirements to standardize the length of the TIN to 13 symbols for new tires, making no part of the TIN optional.¹⁰ However, compliance with these new requirements is optional until April 13, 2025 for most new tire manufacturers. Until that date, some tire manufacturers may be following the older TIN content requirements, which include an optional code. Therefore, NHTSA will not consider removing the references to an optional code in FMVSS No. 139, as suggested by JATMA, until after April 13, 2025.

¹⁰ 80 FR 19553.

USTMA's first comment was supportive of the proposal. However, it noted that the heading of section III.A in the NPRM referred to the “Date of Manufacture of Tires Subject to FMVSS No. 109.” USTMA noted that the applicability of FMVSS No. 109 hinges on the date of manufacture of the vehicle rather than the date of manufacture of the tire. USTMA is correct. However, as they noted in their comment, the text following the heading referred to the applicability of FMVSS No. 109 correctly.

USTMA submitted a second comment identifying a typographical error in FMVSS No. 119 not discussed in the NPRM. FMVSS No. 119, S6.3 sets forth requirements for the high speed performance test and refers to test procedures specified in S7.3. However, USTMA observed that the test procedures for the high speed performance test in FMVSS No. 119 are actually located in S7.4. USTMA requested that NHTSA correct this typographical error. NHTSA agrees that this is a typographical error and is correcting the error in this final rule.¹¹

¹¹ NHTSA finds that there is good cause to exempt this amendment from the notice-and-comment procedure usually undertaken prior to adopting amendments. Advance notice of this amendment is unnecessary because this is merely a correction of an obvious typographical error.

Finally, NHTSA has reviewed the updates and clarifications in the proposal and has found that one additional change to the presentation of Table II of FMVSS No. 119 would be helpful. Specifically, NHTSA is separating the column containing light truck tires and tubeless tires with rim diameter code 17.5 or smaller into two separate columns. Although these tires use the same plunger size and have the same performance requirements for any given load range, including them in the same column made the column heading either ambiguous or too long. This nonsubstantive change should ease reader understanding.

III. Final Rule

For the reasons stated in the August 2019 NPRM, NHTSA is adopting all of the amendments proposed in the August 2019 NPRM except for the modification to Table II of FMVSS No. 119 discussed in the prior paragraph. The Agency is also amending S6.3 of FMVSS No. 119 to correct a typographical error, as discussed in the response to the comment from USTMA.

IV. Rulemaking Analyses and Notices

A. Executive Order 12866, Executive Order 13563, and DOT Rulemaking Procedures

NHTSA has considered the impact of this rulemaking action under Executive Order 12866, Executive Order 13563, and the Department of Transportation's administrative rulemaking procedures. This rulemaking is not considered significant and was not reviewed by the Office of Management and Budget under E.O. 12866, “Regulatory Planning and Review.”

This rule clarifies the applicability of the FMVSSs to tires intended for use on trailers and makes other technical amendments. It will not result in any costs nor will it have any impact on safety.

B. Regulatory Flexibility Act

Pursuant to the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effect of the rule on small entities (i.e., small businesses, small organizations, and small governmental jurisdictions). The Small Business Administration's regulations at 13 CFR part 121 define a small business, in part, as a business entity “which operates primarily within the United States.” (13 CFR 121.105(a)). No regulatory flexibility analysis is required if the head of an agency certifies the rule would not have a significant economic impact on a substantial number of small entities. SBREFA amended the Regulatory Flexibility Act to require Federal agencies to provide a statement of the factual basis for certifying that a rule would not have a significant economic impact on a substantial number of small entities.

NHTSA has considered the effects of this final rule under the Regulatory Flexibility Act. I certify that this rule will not have a significant economic impact on a substantial number of small entities. This rule will directly impact manufacturers of tires. Although we believe some manufacturers affected by this rule are considered small businesses, we do not believe this rule will have a significant economic impact on those manufacturers. This final rule makes only minor technical changes to the FMVSSs, and does not affect the substantive requirements of the FMVSSs. This rule will not impose any costs upon manufacturers and instead, will relieve any confusion that may exist regarding the applicability of FMVSS No. 109 to specialty tires.

C. Executive Order 13132 (Federalism)

NHTSA has examined this rule pursuant to Executive Order 13132 (64 FR 43255, August 10, 1999) and concluded that no additional consultation with States, local governments or their representatives is mandated beyond the rulemaking process. The Agency has concluded that the rulemaking would not have sufficient federalism implications to warrant consultation with State and local officials or the preparation of a federalism summary impact statement. The final rule would not have “substantial direct effects on the States, on the relationship between the national government and the States, or on the distribution of power and responsibilities among the various levels of government.”

NHTSA rules can preempt in two ways. First, the National Traffic and Motor Vehicle Safety Act contains an express preemption provision: When a motor vehicle safety standard is in effect under this chapter, a State or a political subdivision of a State may prescribe or continue in effect a standard applicable to the same aspect of performance of a motor vehicle or motor vehicle equipment only if the standard is identical to the standard prescribed under this chapter. 49 U.S.C. 30103(b)(1). It is this statutory command by Congress that preempts any non-identical State legislative and administrative law addressing the same aspect of performance.

The express preemption provision described above is subject to a savings clause under which “[c]ompliance with a motor vehicle safety standard prescribed under this chapter does not exempt a person from liability at common law.” 49 U.S.C. 30103(e). Pursuant to this provision, State common law tort causes of action against motor vehicle manufacturers that might otherwise be preempted by the express preemption provision are generally preserved. However, the Supreme Court has recognized the possibility, in some instances, of implied preemption of such State common law tort causes of action by virtue of NHTSA's rules, even if not expressly preempted. This second way that NHTSA rules can preempt is dependent upon there being an actual conflict between an FMVSS and the higher standard that would effectively be imposed on motor vehicle manufacturers if someone obtained a State common law tort judgment against the manufacturer, notwithstanding the manufacturer's compliance with the NHTSA standard. Because most NHTSA standards established by an FMVSS are minimum standards, a State common law tort cause of action that seeks to impose a higher standard on motor vehicle manufacturers will generally not be preempted. However, if and when such a conflict does exist—for example, when the standard at issue is both a minimum and a maximum standard—the State common law tort cause of action is impliedly preempted. See Geier v. American Honda Motor Co., 529 U.S. 861 (2000).

Pursuant to Executive Order 13132 and 12988, NHTSA has considered whether this rule could or should preempt State common law causes of action. The Agency's ability to announce its conclusion regarding the preemptive effect of one of its rules reduces the likelihood that preemption will be an issue in any subsequent tort litigation.

To this end, the Agency has examined the nature (e.g., the language and structure of the regulatory text) and objectives of this rule and finds that this rule, like many NHTSA rules, prescribes only a minimum safety standard. As such, NHTSA does not intend that this rule preempt State tort law that effectively would impose a higher standard on motor vehicle manufacturers than that established by today's rule. Establishment of a higher standard by means of State tort law would not conflict with the minimum standard announced here. Without any conflict, there could not be any implied preemption of a State common law tort cause of action.

D. Executive Order 12988 (Civil Justice Reform)

With respect to the review of the promulgation of a new regulation, section 3(b) of Executive Order 12988, “Civil Justice Reform” (61 FR 4729; Feb. 7, 1996), requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) specifies whether administrative proceedings are to be required before parties file suit in court; (6) adequately defines key terms; and (7) addresses other important issues affecting clarity and general draftsmanship under any guidelines issued by the Attorney General. This document is consistent with that requirement.

Pursuant to this Order, NHTSA notes as follows. The issue of preemption is discussed above. NHTSA notes further that there is no requirement that individuals submit a petition for reconsideration or pursue other administrative proceedings before they may file suit in court.

E. Protection of Children From Environmental Health and Safety Risks

Executive Order 13045, “Protection of Children from Environmental Health and Safety Risks” (62 FR 19855, April 23, 1997), applies to any rule that: (1) Is determined to be “economically significant” as defined under Executive Order 12866, and (2) concerns an environmental, health, or safety risk that the agency has reason to believe may have a disproportionate effect on children. If the regulatory action meets both criteria, the Agency must evaluate the environmental health or safety effects of the planned rule on children, and explain why the planned regulation is preferable to other potentially effective and reasonably feasible alternatives considered by the Agency.

This rule is not economically significant as defined under Executive Order 12866. Further, this rulemaking is not expected to have a disproportionate health or safety impact on children. Consequently, no further analysis is required under Executive Order 13045.

F. Paperwork Reduction Act

Under the Paperwork Reduction Act of 1995 (PRA), a person is not required to respond to a collection of information by a Federal agency unless the collection displays a valid OMB control number. There is no information collection requirement associated with this rule.

G. National Technology Transfer and Advancement Act

Section 12(d) of the National Technology Transfer and Advancement Act (NTTAA) requires NHTSA to evaluate and use existing voluntary consensus standards in its regulatory activities unless doing so would be inconsistent with applicable law (e.g., the statutory provisions regarding NHTSA's vehicle safety authority) or otherwise impractical. Voluntary consensus standards are technical standards developed or adopted by voluntary consensus standards bodies. Technical standards are defined by the NTTAA as “performance-based or design-specific technical specification and related management systems practices.” They pertain to “products and processes, such as size, strength, or technical performance of a product, process or material.”

Examples of organizations generally regarded as voluntary consensus standards bodies include ASTM International, the Society of Automotive Engineers (SAE), and the American National Standards Institute (ANSI). If NHTSA does not use available and potentially applicable voluntary consensus standards, we are required by the Act to provide Congress, through OMB, an explanation of the reasons for not using such standards.

There are no voluntary consensus standards developed by voluntary consensus standards bodies pertaining to this rule.

H. Unfunded Mandates Reform Act

Section 202 of the Unfunded Mandates Reform Act of 1995 (UMRA) requires Federal agencies to prepare a written assessment of the costs, benefits, and other effects of proposed or final rules that include a Federal mandate likely to result in the expenditure by State, local, or tribal governments, in the aggregate, or by the private sector, of more than $100 million annually (adjusted for inflation with base year of 1995). Before promulgating a NHTSA rule for which a written statement is needed, section 205 of the UMRA generally requires the Agency to identify and consider a reasonable number of regulatory alternatives and adopt the least costly, most cost-effective, or least burdensome alternative that achieves the objectives of the rule. The provisions of section 205 do not apply when they are inconsistent with applicable law. Moreover, section 205 allows the Agency to adopt an alternative other than the least costly, most cost-effective, or least burdensome alternative if the Agency publishes with the final rule an explanation of why that alternative was not adopted.

This final rule would not result in any expenditure by State, local, or tribal governments or the private sector of more than $100 million, adjusted for inflation.

I. National Environmental Policy Act

NHTSA has analyzed this rulemaking action for the purposes of the National Environmental Policy Act. The Agency has determined that implementation of this action would not have any significant impact on the quality of the human environment.

J. Congressional Review Act

Pursuant to the Congressional Review Act (5 U.S.C. 801 et seq.), the Office of Information and Regulatory Affairs designated this rule as not a “major rule” as defined by 5 U.S.C. 804(2).

K. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

L. Privacy Act

Please note that anyone can search the electronic form of all documents received into any of our dockets by the name of the individual submitting the document (or signing the document, if submitted on behalf of an association, business, labor union, etc.). You may review DOT's complete Privacy Act Statement in the Federal Register published on April 11, 2000 (65 FR 19477-78), or online at https://www.transportation.gov/privacy/.

List of Subjects in 49 CFR Part 571

Imports, Motor vehicle safety, Reporting and recordkeeping requirements, Tires.

In consideration of the foregoing, NHTSA amends 49 CFR part 571 as follows:

PART 571—FEDERAL MOTOR VEHICLE SAFETY STANDARDS

1. The authority citation for part 571 of Title 49 continues to read as follows:

Authority: 49 U.S.C. 322, 30111, 30115, 30117, and 30166; delegation of authority at 49 CFR 1.95.

2. Amend § 571.109 by revising the section heading and paragraph S2 to read as follows:

§ 571.109 Standard No. 109; New pneumatic tires for vehicles manufactured from 1949 to 1975, bias ply tires, and T-type spare tires.

* * * * *

S2. Application. This standard applies to new pneumatic radial tires for use on passenger cars manufactured from 1949 through 1975, new pneumatic bias ply tires, and T-type spare tires. However, it does not apply to any tire that has been so altered so as to render impossible its use, or its repair for use, as motor vehicle equipment.

* * * * *

3. Amend § 571.110 by revising paragraphs S2, S4.1(b)(2), and S4.4.2(e)(1) to read as follows:

§ 571.110 Tire selection and rims and motor home/recreation vehicle trailer load carrying capacity information for motor vehicles with a GVWR of 4,536 kilograms (10,000 pounds) or less.

* * * * *

S2. Application. This standard applies to motor vehicles with a gross vehicle weight rating (GVWR) of 4,536 kilograms (10,000 pounds) or less, except for motorcycles, and to non-pneumatic spare tire assemblies for those vehicles.

* * * * *

S4.1 * * *

(b) * * *

(2) Trailers may be equipped with ST tires, FI tires, or tires with a rim diameter code of 12 or below that meet the requirements of § 571.119.

* * * * *

S4.4.2 * * *

(e) * * *

(1) Any manufacturer that elects to express the date of manufacture by means of a symbol shall notify NHTSA in writing of the full names and addresses of all manufacturers and brand name owners utilizing that symbol and the name and address of the trademark owner of that symbol, if any. The notification shall describe in narrative form and in detail how the month, day, and year or the month and year are depicted by the symbol. Such description shall include an actual size graphic depiction of the symbol, showing and/or explaining the interrelationship of the component parts of the symbol as they will appear on the rim or single piece wheel disc, including dimensional specifications, and where the symbol will be located on the rim or single piece wheel disc. The notification shall be received by NHTSA not less than 60 calendar days before the first use of the symbol. The notification shall be mailed to National Highway Traffic Safety Administration, West Building, 1200 New Jersey Ave. SE, Washington, DC 20590. All information provided to NHTSA under this paragraph will be placed in the public docket.

* * * * *

4. Amend § 571.119 by:

a. Revising the section heading.

b. Revising paragraph S1.

c. Revising paragraph S6.3.

d. Revising paragraph S7.3(f)(1) and (2).

e. Revising Table II—Minimum Static Breaking Energy.

f. Revising Table III—Endurance Test Schedule.

The revisions read as follows:

§ 571.119 Standard No. 119; New pneumatic tires for motor vehicles with a GVWR of more than 4,536 kilograms (10,000 pounds), specialty tires, and tires for motorcycles.

* * * * *

S1. Scope. This standard establishes performance and marking requirements for tires for use on motor vehicles with a GVWR of more than 4,536 kilograms (10,000 pounds), specialty tires, and tires for motorcycles.

* * * * *

S6.3 High speed performance. When tested in accordance with the procedures of S7.4, a tire shall meet the requirements set forth in S6.1.1 and S6.1.2(a) and (b). However, this requirement applies only to motorcycle tires and to non-speed-restricted tires of nominal rim diameter code 14.5 or less marked load range A, B, C, or D.

* * * * *

S7.3 * * *

(f) * * *

(1) W = [(F × P)/2] × 10⁻³

Where:

W = Breaking energy in joules (J),

F = Force in newtons (N), and

P = Penetration in millimeters (mm),

or;

(2) W = (F × P)/2

Where:

W = Breaking energy in inch-pounds (in-lb),

F = Force in pounds (lb), and

P = Penetration in inches (in).

* * * * *

Table II—Minimum Static Breaking Energy
[Joules (J) and Inch-Pounds (in-lb)]
| Tires other than light truck, motorcycle, 12 rim diameter code or smaller
Tire characteristic | Motorcycle |  | All 12 rim diameter code or smaller except motorcycle |  | Light Truck greater than 12 rim diameter code |  | Tube type greater than 12 rim diameter code |  |  |  | Tubeless 17.5 rim diameter code or smaller |  | Tubeless greater than 17.5 rim diameter code
Plunger diameter (mm and inches) | 7.94 mm | 5/16″ | 19.05 mm | ¾″ | 19.05 mm | ¾″ | 31.75 mm | 1 ¼″ | 38.10 mm | 1 ½″ | 19.05 mm | ¾″ | 31.75 mm | 1 ¼″ | 38.10 mm | 1 ½″
Breaking Energy | J | in-lb | J | in-lb | J | in-lb | J | in-lb | J | in-lb | J | in-lb | J | in-lb | J | in-lb
Load Range:
A | 16 | 150 | 67 | 600 | 225 | 2,000 |  |  |  |  | 225 | 2,000 |  |  |  |
B | 33 | 300 | 135 | 1,200 | 293 | 2,600 |  |  |  |  | 293 | 2,600 |  |  |  |
C | 45 | 400 | 203 | 1,800 | 361 | 3,200 | 768 | 6,800 |  |  | 361 | 3,200 | 576 | 5,100 |  |
D |  |  | 271 | 2,400 | 514 | 4,550 | 892 | 7,900 |  |  | 514 | 4,550 | 734 | 6,500 |  |
E |  |  | 338 | 3,000 | 576 | 5,100 | 1,412 | 12,500 |  |  | 576 | 5,100 | 971 | 8,600 |  |
F |  |  | 406 | 3,600 | 644 | 5,700 | 1,785 | 15,800 |  |  | 644 | 5,700 | 1,412 | 12,500 |  |
G |  |  |  |  | 711 | 6,300 |  |  | 2,282 | 20,200 | 711 | 6,300 |  |  | 1,694 | 15,000
H |  |  |  |  | 768 | 6,800 |  |  | 2,598 | 23,000 | 768 | 6,800 |  |  | 2,090 | 18,500
J |  |  |  |  |  |  |  |  | 2,824 | 25,000 |  |  |  |  | 2,203 | 19,500
L |  |  |  |  |  |  |  |  | 3,050 | 27,000 |  |  |  |  |  |
M |  |  |  |  |  |  |  |  | 3,220 | 28,500 |  |  |  |  |  |
N |  |  |  |  |  |  |  |  | 3,389 | 30,000 |  |  |  |  |  |
Note: For rayon cord tires, applicable energy values are 60 percent of those in table.

Table III—Endurance Test Schedule
Description | Load range | Test wheel speed: km/h | Test wheel speed: r/m | Test load: Percent of maximum load rating: Step I (7 hours) | Test load: Percent of maximum load rating: Step II (16 hours) | Test load: Percent of maximum load rating: Step III (24 hours) | Total test revolution (thousands)
Speed-restricted service:
90 km/h (55 mph) | All | 40 | 125 | 66 | 84 | 101 | 352.5
80 km/h (50 mph) | C, D E, F, G, H, J, L, M, N | 48 32 | 150 100 | 75 66 | 97 84 | 114 101 | 423.0 282.0
56 km/h (35 mph) | All | 24 | 75 | 66 | 84 | 101 | 211.5
Motorcycle | All | 80 | 250 | ᵃ100 | ᵇ108 | 117 | 510.0
All other | A, B, C, D E F G H, J, L, M, N | 80 64 64 56 48 | 250 200 200 175 150 | ᵃ75 70 66 66 66 | ᵇ97 88 84 84 84 | 114 106 101 101 101 | 510.0 564.0 564.0 493.5 423.0
ᵃ 4 hours for tire sizes subject to high speed requirements S6.3.
ᵇ 6 hours for tire sizes subject to high speed requirements S6.3.

* * * * *

5. Amend § 571.139 by:

a. Revising paragraph S2;

b. Revising paragraph S4.1.1(a);

c. Revising paragraph S6.2.1.1.1;

d. Revising paragraph S6.3.1.1.1; and

e. Revising paragraph S6.4.1.1.1.

The revisions read as follows:

§ 571.139 Standard No. 139; New pneumatic radial tires for light vehicles.

* * * * *

S2 Application. This standard applies to new pneumatic radial tires for use on motor vehicles (other than motorcycles and low speed vehicles) that have a gross vehicle weight rating (GVWR) of 10,000 pounds or less and that were manufactured after 1975. This standard does not apply to special tires (ST) for trailers in highway service, tires for use on farm implements (FI) in agricultural service with intermittent highway use, tires with rim diameters of 12 inches and below, T-type temporary use spare tires with radial construction, and light truck tires with a tread depth of 18/32 inch or greater.

* * * * *

S4.1.1 * * *

(a) Listed by manufacturer name or brand name in a document furnished to dealers of the manufacturer's tires, to any person upon request, and in duplicate to the Docket Section (No. NHTSA-2009-0117), National Highway Traffic Safety Administration, West Building, 1200 New Jersey Ave. SE, Washington, DC 20590; or

* * * * *

S6.2.1.1.1 Mount the tire on a test rim and inflate it to the pressure specified for the tire in the following table:

Tire application | Test pressure (kPa)
Passenger car tires:
Standard load | 220
Extra load | 260
Light truck tires with a nominal cross section ≤295 mm (11.5 inches):
Load Range C | 320
Load Range D | 410
Load Range E | 500
Light truck tires with a nominal cross section >295 mm (11.5 inches)
Load Range C | 230
Load Range D | 320
Load Range E | 410

* * * * *

S6.3.1.1.1 Mount the tire on a test rim and inflate it to the pressure specified for the tire in the following table:

Tire application | Test pressure (kPa)
Passenger car tires:
Standard load | 180
Extra load | 220
Light truck tires with a nominal cross section ≤295 mm (11.5 inches)
Load Range C | 260
Load Range D | 340
Load Range E | 410
Light truck tires with a nominal cross section >295 mm (11.5 inches)
Load Range C | 190
Load Range D | 260
Load Range E | 340

* * * * *

S6.4.1.1.1 This test is conducted following completion of the tire endurance test using the same tire and rim assembly tested in accordance with S6.3 with the tire deflated to the following appropriate pressure:

Tire application | Test pressure (kPa)
Passenger car tires
Standard load | 140
Extra load | 160
Light truck tires with a nominal cross section ≤295 mm (11.5 inches)
Load Range C | 200
Load Range D | 260
Load Range E | 320
Light truck tires with a nominal cross section >295 mm (11.5 inches)
Load Range C | 150
Load Range D | 200
Load Range E | 260

* * * * *

Issued in Washington, DC, under authority delegated in 49 CFR 1.95 and 501.5.
Steven S. Cliff,
Acting Administrator.

[FR Doc. 2021-18633 Filed 8-30-21; 8:45 am]

BILLING CODE 4910-59-P